FEDERAL MARITIME COMMISSION

Ocean Transportation Intermediary License

The Commission gives notice that it has requested that the parties to the below listed agreement provide additional information pursuant to section 6(d) of the Shipping Act of 1984, 46 U.S.C. app. §§ 1701 et seq. The Commission has determined that further information is necessary to evaluate the proposed agreement. This action prevents the agreement from becoming effective as originally scheduled.

Agreement No.: 011760.

Title: Discovery Cruise Line/Seaboard Space Charter and Sailing Agreement.

Parties:

Discovery Cruise Line

Seaboard Marine, Ltd.

Dated: May 25, 2001.
By order of the Federal Maritime Commission.
Bryant L. VanBrakle,
Secretary.

[FR Doc. 01-13697 Filed 5-31-01; 8:45 am]

BILLING CODE 6730-01-M